DEPARTMENT OF THE INTERIOR

Fish and Wildlife Service

Mackay Island National Wildlife Refuge

AGENCY: Fish and Wildlife Service, Interior.

ACTION: Notice of availability of the Draft Comprehensive Conservation Plan and Environmental Assessment for the Mackay Island National Wildlife Refuge in Currituck County, NC, and Virginia Beach, VA.

SUMMARY: This notice announces that a Draft Comprehensive Conservation Plan and Environmental Assessment for Mackay Island National Wildlife Refuge are available for review and comment. The National Wildlife Refuge System Administration Act of 1966, as amended by the National Wildlife Refuge System Improvement Act of 1997, requires the Service to develop comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation, wildlife photography, and environmental education and interpretation.

DATES: Meetings will be held in early 2006 in Knotts Island, Currituck, and Corolla, North Carolina, and Virginia Beach, Virginia, to present the plan to the public. Mailings, newspaper articles, and postings on the refuge's Web site will be the avenues to inform the public of the dates and times of the meetings. Individuals wishing to comment on the Draft Comprehensive Conservation Plan and Environmental Assessment for Mackay Island National Wildlife Refuge should do so no later than February 16, 2006. Public comments were requested, considered, and incorporated throughout the planning process in numerous ways. Public outreach has included scoping meetings, a review of the biological program, an ecosystem planning newsletter, and a Federal Register notice.

ADDRESSES: Requests for copies of the Draft Comprehensive Conservation Plan and Environmental Assessment should be addressed to Tim Cooper, P.O. Box 39, Knotts Island, North Carolina 27950, or you may send your comments via electronic mail to: tim_cooper@fws.gov with a subject line, “Draft CCP Comments: Mackay Island NWR.” Our practice is to make comments, including names and home addresses of respondents, available for public review during regular business hours. Individual respondents may request that we withhold their home addresses from the record, which we will honor to the extent allowed by law.

SUPPLEMENTARY INFORMATION: The Service analyzed three alternatives for future management of the refuge and chose Alternative 2 as the preferred alternative.

Proposed goals for the refuge include:

• Conserve and maintain healthy and viable populations of migratory birds, wildlife, fish, and plants, including Federal and State endangered species and trust species.

• Restore, enhance, and maintain the health and biodiversity of brackish marsh, forests, and other habitats to ensure optimum ecological productivity and to protect the water quality of Currituck Sound and Back Bay.

• Provide the public with safe, quality wildlife-dependent recreational and educational opportunities that focus on the wildlife and habitats of the refuge and the National Wildlife Refuge System.

• Protect refuge resources by limiting the adverse impacts of human activities and development.

• Acquire and manage adequate funding, human resources, facilities, equipment, and infrastructure to accomplish the other refuge goals.

Also available for review are draft compatibility determinations for recreational hunting, fishing, wildlife observation, wildlife photography, and environmental education and interpretation.

Alternatives

Alternative 1 proposes to maintain the status quo. The refuge would manage very intensively the water levels of the impoundments and the vegetation to create optimum habitat for migrating waterfowl. It would also manage marshes with prescribed fire. The staff would survey waterfowl on a routine basis. The refuge would allow the six priority public use activities: hunting, fishing, wildlife observation, wildlife photography, and environmental education and interpretation. The staff would conduct environmental education and interpretation on a request basis only. There would be seven staff members stationed at Mackay Island Refuge. They would spend 4.15 full-time equivalent staff years at Mackay Island Refuge and 2.85 full-time equivalent staff years at Currituck National Wildlife Refuge.

Alternative 2, the preferred alternative, proposes moderate program increases. The refuge would develop a habitat management plan and manage all habitats on the refuge. It would survey a wide range of wildlife on the refuge. The refuge would continue to allow the six priority public use activities, but would have the capacity to increase the number of opportunities. The staff would conduct regularly scheduled environmental education and interpretation programs. The Service would build an environmental education center. There would be fifteen staff members, eleven of whom would be stationed at Mackay Island Refuge and four of whom would be stationed at Currituck Refuge. They would spend 7.8 full-time equivalent staff years at Mackay Island Refuge and 7.2 full-time equivalent staff years at Currituck Refuge. The staff would include a biologist and public use specialist.

Alternative 3 proposes substantial program increases. The refuge would develop a habitat management plan and manage all habitats on the refuge. The staff would survey all wildlife on the refuge. The refuge would increase further the number of public use opportunities. The Service would build an environmental education center. There would be twenty-four staff members, seventeen of whom would be stationed at Mackay Island Refuge and seven of whom would be stationed at Currituck Refuge. They would spend 11.25 full-time equivalent staff years at Mackay Island Refuge and 12.75 full-time equivalent staff years at Currituck Refuge. The staff would include separate law enforcement officers and public use specialists for Mackay Island and Currituck Refuges.

Actions Common to All Alternatives

All three alternatives share the following concepts and techniques for achieving the goals of the refuge:

• Cooperating with local, State, and Federal agencies, as well as non-governmental organizations, to administer refuge programs;

• Utilizing volunteers to execute the public use, biological, and maintenance programs on the refuge;

• Monitoring populations of waterfowl, shorebirds, and wading birds, and vegetation in the refuge impoundments;

• Maintaining vegetation in the marsh with prescribed fire; and

• Encouraging scientific research on the refuge.

Mackay Island National Wildlife Refuge, in northeastern North Carolina, consists of 8,219 acres, of which 4,251 acres are brackish marsh, 1,515 acres are coastal fringe evergreen forest, 995 acres are managed wetlands (impoundments), and 298 acres are cropland. These habitats support a variety of wildlife species, including waterfowl, shorebirds, wading birds, marsh birds, neotropical migratory songbirds, and deer.

The refuge hosts more than seventy five thousand visitors annually, who participate in hunting, fishing, wildlife observation, wildlife photography, and environmental education and interpretation.

Authority: This notice is published under the authority of the National Wildlife Refuge System Improvement act of 1997, Public Law 105-57.

Dated: April 29, 2005.
Cynthia K. Dohner,
Acting Regional Director.

Editorial Note: This document was received at the Office of the Federal Register January 11, 2006.

[FR Doc. 06-370 Filed 1-13-06; 8:45 am]

BILLING CODE 4310-55-M